DEPARTMENT OF THE INTERIOR

U.S. Geological Survey

[USGS-8327CPDM2]

Notice of a Revision of a Currently Approved Information Collection (1028-0091)

Correction

In notice document 2010-24374 beginning on page 60134 in the issue of Wednesday, September 29, make the following correction:

On page 60135, in the second line of the section beginning with DATES, “December 28, 2010” should read “October 29, 2010”.

[FR Doc. C1-2010-24374 Filed 10-7-10; 8:45 am]

BILLING CODE 1505-01-D